COMMODITY FUTURES TRADING COMMISSION

Global Markets Advisory Committee

AGENCY: Commodity Futures Trading Commission.

ACTION: Notice; request for nominations and topic submissions.

SUMMARY: The Commodity Futures Trading Commission (CFTC or Commission) is requesting nominations for membership on the Global Markets Advisory Committee (GMAC or Committee) and also inviting expressions of interest in participation in potential subcommittees and the submission of potential topics for discussion at future Committee meetings. The GMAC is a discretionary advisory committee established by the Commission in accordance with the Federal Advisory Committee Act.

DATES: The deadline for the submission of nominations and topics is June 17, 2022.

ADDRESSES: Nominations and interest in participation in potential subcommittees should be emailed to GMAC_Submissions@cftc.gov or sent by hand delivery or courier to Keaghan Ames, GMAC Designated Federal Officer and Counselor & Senior Policy Advisor to Commissioner Caroline D. Pham, Commodity Futures Trading Commission, Three Lafayette Centre, 1155 21st Street NW, Washington, DC 20581. Please use the title “Global Markets Advisory Committee” for any nominations or topics you submit.

FOR FURTHER INFORMATION CONTACT: Keaghan Ames, GMAC Designated Federal Officer and Counselor & Senior Policy Advisor to Commissioner Caroline D. Pham at (202) 418-5644 or email: kames@cftc.gov.

SUPPLEMENTARY INFORMATION: The GMAC was established to advise the Commission on issues that affect the integrity and competitiveness of U.S. markets and U.S. firms engaged in global business. To fulfill its mandate, the GMAC will conduct public meetings and submit reports and recommendations to the Commission on matters of public concern to financial market infrastructures, swap data repositories, intermediaries including swap dealers, market participants, service providers, public interest groups, and regulators regarding the regulatory challenges of a global marketplace that reflects the increasing interconnectedness of markets and the multinational nature of business. The duties of the GMAC are solely advisory and include advising the Commission with respect to preservation of core protections for customers and other market participants, while avoiding unnecessary regulatory or operational impediments to global business. The GMAC also makes recommendations to the Commission for appropriate international standards for regulating futures, swaps, options, and derivatives markets, as well as intermediaries. Determinations of actions to be taken and policy to be expressed with respect to the reports or recommendations of the GMAC are made solely by the Commission.

GMAC members generally serve as representatives and provide advice reflecting the views of organizations and entities with interests in the global derivatives and financial markets. The GMAC may also include regular government employees when doing so furthers purposes of the GMAC. Historically, the GMAC has had up to 40 members with the following types of entities with interests in the global markets and infrastructure being represented: (i) End-users, (ii) exchanges, (iii) swap execution facilities, (iv) swap data repositories, (v) clearinghouses, (vi) asset managers, (vii) intermediaries, (viii) swap dealers, (ix) service providers, (x) public interest groups, and (xi) regulators. The GMAC has held approximately 1-3 meetings per year. GMAC members serve at the pleasure of the Commission. In addition, GMAC members do not receive compensation or honoraria for their services, and they are not reimbursed for travel and per diem expenses.

The Commission seeks members who represent organizations or groups with an interest in the GMAC's mission and function and reflect a wide range of perspectives and interests related to the global derivatives and other financial markets. To advise the Commission effectively, GMAC members must have a high-level of expertise and experience in the global derivatives and financial markets and the Commission's regulation of such markets, including from a historical perspective. To the extent practicable, the Commission will strive to select members reflecting wide ethnic, racial, gender, and age representation. GMAC members should be open to participating in a public forum.

The Commission invites the submission of nominations for GMAC membership. Each nomination submission should include relevant information about the proposed member, such as the individual's name, title, and organizational affiliation as well as information that supports the individual's qualifications to serve on the GMAC. The submission should also include suggestions for topics for discussion at future GMAC meetings as well as the name and email or mailing address of the person nominating the proposed member. In addition, the Commission invites submissions from the public with expressions of interest in participation in possible subcommittees.

Submission of a nomination is not a guarantee of selection as a member of the GMAC. As noted in the GMAC's Membership Balance Plan, the CFTC identifies members for the GMAC through a variety of methods. Such methods may include public requests for nominations for membership; recommendations from existing advisory committee members; consultations with knowledgeable persons outside the CFTC (industry, consumer groups, other state or federal government agencies, academia, etc.); requests to be represented received from individuals and organizations; and Commissioners' and CFTC staff's professional knowledge of those experienced in the global markets. The office of the Commissioner primarily responsible for the GMAC plays a primary, but not exclusive, role in this process and makes recommendations regarding membership to the Commission. The Commission, by vote, authorizes members to serve on the GMAC.

(Authority: 5 U.S.C. app. II)

Dated: May 27, 2022.
Christopher Kirkpatrick,
Secretary of the Commission.

[FR Doc. 2022-11890 Filed 6-2-22; 8:45 am]

BILLING CODE 6351-01-P